TENNESSEE VALLEY AUTHORITY

Sunshine Act Meeting Notice

Meeting No. 19-02

The TVA Board of Directors will hold a public meeting on May 9, 2019, at The WareHouse, 1810 Columbia Avenue, Suite 100, Franklin, Tennessee. The meeting will be called to order at 10 a.m. CT to consider the agenda items listed below. TVA will answer questions from the news media following the Board meeting.

On May 8, the public may comment on any agenda item or subject at a board-hosted listening session which begins at 3:30 p.m. CT and will last until 5:30 p.m. Preregistration is required to address the Board.

Status: Open

Agenda: Chair's Welcome.

Old Business: Approval of minutes of the February 14, 2019, Board Meeting.

New Business

1. Report from Chair

A. Committee Membership

2. Report from President and CEO

3. Report of the Finance, Rates, and Portfolio Committee

A. Circuit breaker and disconnect switches contracts

B. Rate change- wholesale grid access charge adjustment

4. Report of the Audit, Risk, and Regulation Committee

5. Report of the Nuclear Oversight Committee

6. Report of the People and Performance Committee

7. Report of the External Relations Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: May 2, 2019.
Sherry A. Quirk,
General Counsel.

[FR Doc. 2019-09423 Filed 5-3-19; 11:15 am]

BILLING CODE 8120-08-P